DEPARTMENT OF THE INTERIOR

Bureau of Land Management

[OR-081-5882-DF-SM99; HAG 06-0075]

Meetings: Resource Advisory Committees—Salem, OR

AGENCY: Bureau of Land Management, Interior.

ACTION: Meeting notice for the Salem, Oregon, Bureau of Land Management (BLM) Resource Advisory Committee under Section 205 of the Secure Rural Schools and Community Self Determination Act of 2000 (Pub. L. 106-393).

SUMMARY: This notice is published in accordance with Section 10(a)(2) of the Federal Advisory Committee Act. Meeting notice is hereby given for the Salem Oregon BLM Resource Advisory Committee pursuant to Section 205 of the Secure Rural Schools and Community Self Determination Act of 2000, Public Law 106-393 (the Act). Topics to be discussed by the Salem BLM Resource Advisory Committee include: reviewing 2006 project applications, developing funding recommendations for 2006 projects, monitoring progress of previously approved projects, and scheduling field reviews of projects.

DATES: The Salem Oregon BLM Resource Advisory Committee will meet at the BLM Salem District Office, 1717 Fabry Road, Salem, Oregon 97306, from 8:30 a.m. to 4 p.m. on June 22, 2006. If an additional meeting is needed for the Resource Advisory Committee to develop funding recommendations, it will be held on June 29, 2006. In addition to these meeting dates, a pre-proposal meeting to review submitted projects will be held on March 2, 2006.

SUPPLEMENTARY INFORMATION: Pursuant to the Act, Secure Rural Schools and Community Self Determination Act of 2000, five Resource Advisory Committees have been formed for western Oregon BLM districts that contain Oregon & California (O&C) Grant Lands and Coos Bay Wagon Road lands. The Secure Rural Schools and Community Self Determination Act of 2000 establishes a six-year payment schedule to local counties in lieu of funds derived from the harvest of timber on Federal lands.

The Secure Rural Schools and Community Self Determination Act of 2000 creates a new mechanism for local community collaboration with Federal Land management activities in the selection of projects to be conducted on Federal lands or that will benefit resources on Federal lands. The BLM Resource Advisory Committees consist of 15 local citizens (plus 6 alternates) representing a wide array of interests.

FOR FURTHER INFORMATION CONTACT: Additional information concerning the Salem BLM Resource Advisory Committee may be obtained from Paul Jeske, Salem District Designated Federal Official at 503-375-5644 or Trish Hogervorst, Salem BLM Public Affairs Officer, 503-375-5657 at 1717 Fabry Rd. SE., Salem, Oregon 97306.

Dated: February 8, 2006.
Denis Williamson,
District Manager.

[FR Doc. E6-2019 Filed 2-13-06; 8:45 am]

BILLING CODE 4310-33-P